DEPARTMENT OF THE INTERIOR

National Park Service

Final Environmental Impact Statement; General Management Plan/Comprehensive River Management Plans; Sequoia-Kings Canyon National Parks; Fresno and Tulare Counties, CA; Notice of Approval Of Decision.

SUMMARY: Pursuant to § 102(2)(C) of the National Environmental Policy Act of 1969 (Pub. L. 91-190, as amended) and the implementing regulations promulgated by the Council on Environmental quality (40 CFR 1505.2), the Department of the Interior, National Park Service has released a Final Environmental Impact Statement (EIS) for the General Management Plan (GMP). The Regional Director, Pacific West Region has approved the Record of Decision for the GMP and supporting Comprehensive River Management Plans which together will guide management, research and operations at Sequoia and Kings Canyon National Parks over the next 10-15 years. The formal no-action period was officially initiated November 17, 2006, with the U.S. Environmental Protection Agency's Federal Register notification of the filing of the Final EIS.

Decision: As soon as practicable the Parks will begin to implement a comprehensive range of activities and programs planned so as to enhance the park's ability to carry out its mission while limiting the amount of new environmental impacts from development and use—the selected plan was identified and analyzed as Preferred in the Final EIS. The new plan maximizes ecological restoration where possible, while the basic character of park activities and the rustic architecture of facilities is retained. River protection measures safeguard the existing and eligible and suitable wild and scenic rivers. A modest increase in day use is accommodated through alternative transportation systems and redesign of some roads and parking. Visitors are offered more diverse opportunities to experience the parks. A Wilderness Stewardship and Stock Use Plan will be developed, with formal opportunities for public involvement in the planning as well as review. The parks will refine the visitor carrying capacity framework so as to preserve park resources and ensure a quality visitor experience. As documented in the Final EIS, this course of action was deemed to be “environmentally preferred”.

The preferred plan and four alternatives were identified and analyzed in the Final EIS, and previously in the Draft EIS (the latter was distributed in May, 2004). The full spectrum of foreseeable environmental consequences was assessed, and appropriate mitigation measures identified, for each alternative. Beginning with early scoping, through the preparation of the Draft EIS, numerous public meetings were hosted in Three Rivers, Grant Grove, Visalia, Clovis, Fresno, Sacramento, San Francisco, Bishop, Los Angeles and elsewhere. As a result of the extensive scoping outreach of GMP mailing list of about 3,700 entries was developed. Approximately 400 oral and written comments were received in response to the Draft EIS. Key consultations or other contacts which aided in preparing the Draft and Final EIS involved (but were not limited to) the State Historic Preservation Office, the U.S. Fish and Wildlife Service and California Department of Fish and Game, the Bureau of Land Management, the U.S. Forest Service, and Tribal representatives. Local communities, county and city officials, and interested groups and organizations were contacted extensively during initial scoping and throughout the conservation planning and environmental impact analysis process.

Copies: Interested parties desiring to review the Record of Decision may obtain a complete copy by contacting the Superintendent, Sequoia-Kings Canyon National Parks, Three Rivers, CA 93271; or via telephone request at (559) 565-3341.

Dated: September 14, 2007.
Jonathan B. Jarvis,
Regional Director, Pacific West Region.

[FR Doc. 07-6101 Filed 12-19-07; 8:45 am]

BILLING CODE 4310-X2-M